DEPARTMENT OF HEALTH AND HUMAN SERVICES

Centers for Disease Control and Prevention

[Program Announcement 01061]

Longitudinal Studies of Rodent Reservoirs of Hantaviruses in the Southwestern United States; Notice of Availability of Funds

A. Purpose

The Centers for Disease Control and Prevention (CDC) announces the availability of fiscal year (FY) 2001 funds for a cooperative agreement to provide assistance for longitudinal studies of rodent reservoirs of hantaviruses in the Southwestern United States. This program addresses the “Healthy People 2010” focus area of Immunization and Infectious Diseases.

The purpose of the program is to continue to improve understanding of the ecological dynamics of the transmission cycle of hantaviruses in their natural host populations and to provide precise data linking environmental changes to changes in rodent population densities and prevalence of infection. These data will be used to parameterize mathematical models that will use satellite-derived environmental descriptors to predict changes in risk of hantavirus disease at precise times and places in North America.

The preliminary success of the current studies in identifying environmental factors that lead to increased risk of human disease has illustrated that (1) more precise and detailed measurements of environmental variables are required as input parameters and to calibrate accurate, predictive, mathematical models of disease risk; (2) mathematical models must be calibrated using data from many years and geographically dispersed sites; and (3) fine-scale remotely sensed (satellite) data must be used in order to make predictive models generalizable and applicable across wide geographic areas.

B. Eligible Applicants

Assistance will be provided only to the University of New Mexico (UNM), Colorado State University (CSU), and Yavapai College (YC).

Hantaviruses have been shown in the United States to be responsible for serious human disease, specifically, Hantavirus Pulmonary Syndrome (HPS). There have been over 280 identified cases of HPS, the majority of which have occurred in the Southwestern United States. Other North American species of Hantavirus have now been described from various sigmodontine rodent reservoirs, including Sigmodon hispidus, Peromyscus leucopus, Oryzomys palustris, Peromyscus boylii, and Reithrodontomys megalotis. All of these species, except O. palustris, coexist in the Southwestern U.S.

A complete understanding of the cycle of HPS in humans will require knowledge of the dynamics of viral infection in the rodent reservoir. Cross-sectional studies have identified several reservoir species, demonstrated the widespread distribution of infection in populations of these species and shown that the prevalence of infection is highly variable on a spacial scale. Long-term studies of reservoir populations are necessary to determine temporal patterns of infection, incidence rates, mechanisms of transmission, effects of climate, habitat quality, and host populations dynamics on the transmission cycle, and effects of infection on host movements, growth, longevity and population dynamics.

Longitudinal mark-recapture studies of reservoir populations have been conducted at established trapping sites in Arizona, Colorado, and New Mexico since 1994 through separate cooperative agreements with UNM, CSU, and YC. These academic institutions established the trapping sites, performed the research, collected and interpreted the data, and published the results in peer-reviewed scientific literature. Due to the inherent temporal variability in environmental, climatological, and population parameters at the sites, comparative data must be collected over a period of many years for the objectives of long-term studies to be met.

The previous longitudinal studies have greatly improved understanding of hantivirus-host ecology and have elucidated general patterns that implicate environmental factors that are associated with increased risk of human hantaviral disease. Nevertheless, these data have shown that discerned patterns vary tremendously both spatially and temporally. In addition, many environmental changes are extremely rare events and conditions that lead to rodent population irruptions and human epidemics are infrequent. Thus, the ultimate usefulness of these studies depends upon adequate replication in time and space and their long-term maintenance.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $625,000 is available in FY 2001 to fund approximately three awards. It is expected that the average award will be $208,000, ranging from $100,000 to $250,000. It is expected that the awards will begin on or about September 30, 2001, and will be made for a 12-month budget period within a project period of up to five years. Funding estimates may change.

Continuation awards within an approved project period will be made on the basis of satisfactory progress as evidenced by required reports and availability of funds.

D. Program Requirements

In conducting activities to achieve the purpose of this program, the recipient shall be responsible for the activities under 1. (Recipient Activities), and CDC shall be responsible for conducting activities under 2. (CDC Activities).

1. Recipient Activities

a. Conduct longitudinal mark recapture studies of rodents on existing established webs in the Southwestern United States to identify and determine the dynamics of populations of rodents that are confirmed or potential reservoirs of hantaviruses.

b. Develop a plan that will use ecological techniques that will provide continuity of rodent sampling and processing so that data can be appropriately analyzed and integrated with previously collected ecological data from the established sites. Ecological techniques should include capture-mark-release and may be supplemented by radio-tracking.

c. Collect and submit blood samples on all captured animals for further laboratory analysis and storage.

d. Identify, characterize, and archive samples of all rodents collected. Perform morphological measurements, karyotypes, allozyme studies, molecular genetic studies, and other appropriate studies necessary for characterization of rodents.

e. Design and conduct concurrent/parallel studies of vertebrate populations at sites of future HPS investigations as appropriate, including identification, characterization, and archiving of samples.

f. Carefully monitor environmental variables that are likely to be associated with changes in rodent population density and prevalence of hantavirus infection. Variables should include, but are not limited to: Local precipitation, temperature, and humidity; vegetative cover and greenness; availability of food items (seeds of grasses and forbs; oak, pinyon, and juniper mast; arthropod biomass).

g. Collaborate with all partners to analyze and publish study results.

2. CDC Activities

a. Provide consultation and scientific and technical assistance in the design, conduct, and evaluation of the project.

b. As necessary, perform appropriate laboratory testing and analysis of blood samples from captured animals.

c. Collaborate with the recipient to analyze and publish study results, as requested.

E. Application Content

Use the information in the Program Requirements, Other Requirements, and Evaluation Criteria sections to develop the application content. Your application will be evaluated on the criteria listed, so it is important to follow them in laying out your program plan. The narrative should be no more than 14 double-spaced pages, printed on one side, with one-inch margins, and unreduced font.

F. Submission and Deadline

Submit the original and five copies of PHS-398 (OMB Number 0925-0001) (adhere to the instructions on the Errata Instruction Sheet for PHS 398). Forms are in the application kit.

On or before June 30, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Background and Need (33 Points)

Extent to which applicant demonstrates a clear understanding of the purpose and objectives of this proposed cooperative agreement and demonstrates a clear understanding of the requirements, responsibilities, interactions, problems, constraints, complexities, etc., that may be encountered in conducting the project and performing the studies.

2. Capacity and Personnel (33 Points)

Extent to which applicant demonstrates experience and qualifications of professional personnel in are suitable for conducting the studies proposed in this cooperative agreement. Extent to which applicant demonstrates it has adequate administrative personnel and support. Extent to which applicant demonstrates it has adequate scientific resources and facilities to successfully conduct the activities.

3. Objectives and Technical Approach (34 Points)

Extent to which applicant describes objectives of the proposed project which are consistent with the purpose and goals of this grant/cooperative agreement program and which are measurable and time-phased. Extent to which applicant presents a detailed operational plan for initiating and conducting the project, which clearly and appropriately addresses all Recipient Activities. Extent to which applicant clearly identifies specific assigned responsibilities of all key professional personnel. Extent to which the plan clearly describes applicant's technical approach/methods for conducting the proposed studies and extent to which the plan is adequate to accomplish the objectives. Extent to which applicant describes specific study protocols or plans for the development of study protocols that are appropriate for achieving project objectives. Extent to which applicant describes adequate and appropriate collaboration with CDC and/or others during various phases of the project. Extent to which applicant provides a detailed and adequate plan for evaluating study results and for evaluating progress toward achieving project objectives.

4. Budget (Not Scored)

Extent to which applicant presents a detailed, line-item budget with a detailed narrative justification (by line-item) that is consistent with the purpose and objectives of this cooperative agreement.

5. Animal Subjects (Not Scored)

Does the application adequately address the requirements of PHS Policy on Humane Care and Use of Laboratory Animals by Awardee Institutions?

H. Other Requirements

Technical Reporting Requirements

Provide CDC with original plus two copies of

1. Progress reports semiannually;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I in the application kit.

AR-3 Animal Subjects Requirements

AR-10 Smoke-Free Workplace Requirements

AR-11 Healthy People 2010

AR-12 Lobbying Restrictions

AR-15 Proof of Non Profit Status

I. Authority and Catalog of Federal Domestic Assistance

This program is authorized under section(s) 301a (42 U.S.C. 241(a)), 311 (42 U.S.C. 243), 317 (k)(3) (42 U.S.C. 247b(k)(3), and 319(a)) of the Public Health Service Act, as amended. The Catalog of Federal Domestic Assistance number is 93.283.

J. Where To Obtain Additional Information

This and other CDC announcements can be found on the CDC home page Internet address—http://www.cdc.gov Click on “Funding” then “Grants and Cooperative Agreements.”

To obtain additional information, contact: Gladys Gissentanna, Grants Management Specialist, Grants Management Branch, Procurement and Grants Office, Centers for Disease Control and Prevention, Room 3000, 2920 Brandywine Road, Atlanta, GA 30341-4146, Telephone number: 770-488-2753, Email address: gcg4@cdc.gov.

For program technical assistance, contact: Dr. James Mills, National Center for Infectious Diseases, Centers for Disease Control and Prevention, 1600 Clifton Road, NE., Atlanta, GA 30333, Telephone number: 404-639-1396, Email address: jum0@cdc.gov.

Dated: May 8, 2001.
John L. Williams,
Director, Procurement and Grants Office, Centers for Disease Control and Prevention (CDC).

[FR Doc. 01-12002 Filed 5-11-01; 8:45 am]

BILLING CODE 4163-18-P